DEPARTMENT OF COMMERCE

National Oceanic and Atmospheric Administration

[I.D. 012201C]

Southeast Region Logbook Family of Forms

AGENCY: National Oceanic and Atmospheric Administration (NOAA)

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before April 2, 2001.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Roberts Sadler, Southeast Regional Office, 9721 Executive Center Drive, St. Petersburg, FL 33702 (phone 727-570-5326).

SUPPLEMENTARY INFORMATION:

I. Abstract

The reporting burden for this family of forms is comprised of mandatory dealer reporting and dockside interviews. Mandatory dealer reporting is authorized under 50 CFR 622.5 and 635.5 and is used to monitor Federally-mandated fishery quotas. Dockside interviews with fishermen are used to collect biological data from fishing trips. These data consist of the measurement and weights of fish, fishing effort and fishing area.

II. Method of Collection

Mandatory dealer reporting is accomplished with forms provided by the Science and Research Director, Southeast Fisheries Science Center. Dockside interviews are conducted on site and data are recorded by trained Federal port agents.

III. Data

OMB Number: 0648-0013.

Form Number: NOAA Form 88-30.

Type of Review: Regular submission.

Affected Public: Business and other for-profit organizations (seafood dealers and fishermen).

Estimated Number of Respondents: 5,500.

Estimated Time Per Response: 15 minutes for a dealer report in the golden crab, red snapper, rock shrimp, and Puerto Rican prohibited coral fisheries; 5 additional minutes to fax or mail a red snapper dealer report; 5 minutes for a dealer report in the snowy grouper, tilefish, and mackerel fisheries; 5 minutes for an annual vessel interview; 10 minutes for other interviews; 10 minutes for a dealer and vessel report in the eastern Gulf of Mexico runaround gill mackerel fishery; 8 minutes for a dealer report for swordfish and sharks; 17 minutes for a swordfish importer report; and 4.5 minutes for a wreckfish dealer report.

Estimated Total Annual Burden Hours: 3,256.

Estimated Total Annual Cost to Public: $0.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 19, 2001.
Gwellnar Banks,
Management Analyst, Office of the Chief Information Officer.

[FR Doc. 01-2415 Filed 1-29-01; 8:45 am]

BILLING CODE 3510-22-S